FEDERAL COMMUNICATIONS COMMISSION

Notice of Public Information Collection(s) Being Reviewed by the Federal Communications Commission, Comments Requested

July 25, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 2, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Approval No.: XXXXXX.

Title: Notification of Emergency Alert System Status.

Type of Review: New Collection.

Respondents: Business or other for-profit; and not-for-profit institutions, state, local or tribal government(s).

Number of Respondents: 125.

Estimate Time Per Response: 30 minutes.

Frequency of Response: On Occasion.

Total Annual Burden: 62 hrs.

Needs and Uses: The Resident Agent of the Agency's Alaska Office is developing a survey to assess whether FM translators located in isolated areas of Alaska are in compliance with the Emergency Alert System (EAS) rules adopted January 1, 1997. These rules state that FM translators not rebroadcasting the entire programming of other local FM broadcast stations must be in compliance by having EAS equipment installed and working properly. In remote areas of Alaska FM translators provide service to their communities by re-broadcasting programming from other local FM broadcast stations, however, in some cases the FM translators do not rebroadcast the entire contents of the program thus they could inadvertently eliminate any EAS warnings. EAS not only provides the President of the United States the capability to provide immediate communications and information to the general public during periods of national emergency, but it also allows the local and/or state officials the ability to warn the public in the remote areas of Alaska about avalanches, wildfires, etc. Due to its size, remoteness, and isolation, it is difficult for the Resident Agent to make on scene inspections to ensure that the FM translators are in compliance. Using the survey the Resident Agent can find out if licensed FM translators are either rebroadcasting local programming in their entirety including EAS warnings or, if not, then the FM translator station has EAS equipment installed and working properly. FM translator stations not in compliance could present a safety of life issue to the listening public.

OMB Control Number: 3060-0771.

Title: Procedure for Obtaining a Special Temporary Authorization in the Experimental Radio Service—Section 5.56.

Form No.: N/A.

Type of Review: Extension of currently approved collection.

Respondents: Businesses or other for-profit entities, State, Local or Tribal Government.

Number of Respondents: 500.

Estimated Time Per Response: 1 hour.

Total Annual Burden: 500 hours.

Total Annual Cost: N.A.

Needs and Uses: The Commission may issue a special temporary authority (STA) under Part 5 of the rules in cases where a need is shown for operation of an authorized station for a limited time only, in a manner other than that specified in the existing authorization, but does not conflict with the Commission's rules. A request for STA may be filed as an informal application.

OMB Control No.: 3060-0854.

Title: Truth-in-Billing Format—CC Docket No. 98-170.

Form No.: N/A.

Type of Review: Extension.

Respondents: Business or Other for Profit.

Number of Respondents: 3099.

Estimated Time Per Response: 505.3 Hours (avg.).

Total Annual Burden: 1,565,775 Hours.

Estimated Annual Reporting and Recordkeeping Cost Burden: $9,000,000.

Frequency of Response: On occasion; Third Party Disclosure.

Needs and Uses: Under Section 201(b) of the Communications Act, the charges, practices, and classifications of common carriers must be just and reasonable. The Commission believes that the telephone bill is an integral part of the relationship between a carrier and its customer. The manner in which charges are identified and articulated on the bill is essential to the consumer's understanding of the services that have been rendered, such that a carrier's provision of misleading or deceptive billing information may be an unjust and unreasonable practice in violation of Section 201(b). In the Truth-in-Billing and Billing Format Order on Reconsideration, the Commission addressed several petitions for reconsideration or clarification of the principles and guidelines contained in Truth-in-Billing and Billing Format, First Report and Order and Further Notice of Proposed Rulemaking (TIB Order), 64 FR 34487 (June 25, 1999). In the Order on Reconsideration, the Commission modified its collections of information to ensure that telephone bills contain information necessary for consumers to determine the validity of charges assessed on the bills and to combat telecommunications fraud. Telephone bills must clearly identify the name of the service provider associated with each charge. In the Order on Reconsideration, the Commission clarified that, where an entity bundles a number of services as a single package offered by a single company, such offering may be listed on the telephone bill as a single offering, rather than listed as separate charges by provider. Carriers providing bundled services in this manner must, however, make sure that an inquiry contact number or numbers appears on the bill for customer questions or complaints concerning the services provided through the bundle, as required by section 6.2401(d). The Commission also clarified that the carrier name of the telephone bill should be the name by which such company is known to its consumers for the provision of the respective service. In the TIB Order, the Commission required that all telephone bills containing wireline common carrier service (1) separate charges by service provider and (2) clearly and conspicuously show any change in service providers by identifying all service providers that did not bill for services on the previous billing statement and, where applicable, describing any new presubscribed or continuing relationship with the customer. In the Order on Reconsideration, the Commission modified its rule requiring highlighting of new service providers to only apply to providers that have a continuing arrangement with the subscriber that results in periodic charges on the subscriber's telephone bill. This change will ensure that services billed solely on a per-transaction basis, such as operator service and directory assistance, are not subject to the highlighting requirement. The TIB Order requires that (1) bills for wireline service include for each charge a brief, clear, plain-language description of the services rendered; and (2) when a bill for local wireline service contains additional carrier charges, the bill must differentiate between those charges for which non-payment could result in termination of local telephone service and those for which it could not. In the Order on Reconsideration, the Commission retained its requirement that carriers distinguish on telephone bills those charges that consumers may refuse to pay without jeopardizing the provision of basic, local service, and charges for which non-payment may result in such disconnection. The Commission, however, clarified that a carrier need not label every charge as either deniable or non-deniable. The TIB Order requires that all telephone bills display a toll-free number or numbers by which consumers may inquire about or dispute any charge on the bill. The number(s) must be displayed in a manner that permits a customer to identify easily the appropriate number to use to inquire about a particular charge. In the Order on Reconsideration, the Commission modified the requirement by creating a limited exception where the customer does not receive a paper copy of his or her telephone bill, but instead accesses that bill only by e-mail or internet. The information will be used by consumers to help them understand their telephone bills. Consumers need this information to protect themselves against fraud and to help them resolve billing disputes if they wish.

Federal Communications Commission.
Magalie Roman Salas,
Secretary.

[FR Doc. 00-19477 Filed 8-1-00; 8:45 am]

BILLING CODE 6712-01-P